DEPARTMENT OF STATE

[Public Notice: 11368]

In the Matter of the Designation of Islamic State of Iraq and Syria—Democratic Republic of the Congo (and Other Aliases) as a Foreign Terrorist Organization

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Islamic State of Iraq and Syria—Democratic Republic of the Congo, also known as ISIS-DRC, also known as Allied Democratic Forces, also known as Madina at Tauheed Wau Mujahedeen, also known as City of Monotheism and Holy Warriors, also known as Islamic State Central Africa Province, also known as Wilayat Central Africa, also known as Wilayah Central Africa, also known as Wilayah Central Africa Media Office, also known as Wilayat Wasat Ifriqiyah, also known as ISIS-Central Africa.

Therefore, I hereby designate the aforementioned organization and its aliases as a foreign terrorist organization pursuant to section 219 of the INA.

This determination shall be published in the Federal Register.

Authority: 8 U.S.C. 1189.

Dated: March 1, 2021.
Antony J. Blinken,
Secretary of State.

[FR Doc. 2021-04915 Filed 3-10-21; 8:45 am]

BILLING CODE 4710-AD-P